DEPARTMENT OF COMMERCE

International Trade Administration

[A-580-825]

Oil Country Tubular Goods, Other Than Drill Pipe, From Korea: Initiation of New Shipper Antidumping Administrative Review

AGENCY: Import Administration, International Trade Administration, Department of Commerce.

ACTION: Notice of initiation of new shipper antidumping administrative review.

SUMMARY: The Department of Commerce (the Department) has received a request from Shinho Steel Co., Ltd. (“Shinho”) to conduct a new shipper administrative review of the antidumping duty order on oil country tubular goods, other than drill pipe, from Korea, which has an August anniversary date. In accordance with the Department's regulations, we are initiating this administrative review.

EFFECTIVE DATE: April 9, 2001.

FOR FURTHER INFORMATION CONTACT: Michael Strollo, Samantha Denenberg, or Sally Gannon, Office of AD/CVD Enforcement VII, Import Administration, International Trade Administration, U.S. Department of Commerce, 14th Street and Constitution Avenue, NW, Washington DC 20230; telephone: (202) 482-5255, (202) 482-1386 or (202) 482-0162, respectively.

SUPPLEMENTARY INFORMATION:

The Applicable Statute and Regulations

Unless otherwise indicated, all citations to the statute are references to the provisions effective January 1, 1995, the effective date of the amendments made to the Tariff Act of 1930 (the Act) by the Uruguay Round Agreements Act. In addition, unless otherwise indicated, all citations to the Departments's regulations are to the current regulations, codified at 19 CFR part 351, (April 2000).

Background

On February 28, 2001, the Department of Commerce (the Department) received a timely request, in accordance with section 751(a)(2)(B) of the Act and § 351.214(c) of the Department's regulations, for a new shipper administrative review of the antidumping duty order on oil country tubular goods, other than drill pipe, which has an August anniversary date. On March 5, 2001, the Department received a letter from counsel to petitioners in this proceeding (Maverick Tube Corporation, IPSCO Tubulars, Inc., and Lone Star Steel Company) requesting that the Department ask Shinho if it had made shipments of oil country tubular goods, other than drill pipe, during the period of investigation (POI) under the former name of Korea Steel Pipe. In light of Shinho's certifications, discussed below, the Department has determined that it will address this issue in the context of the new shipper review. If we determine that Shinho does not qualify as a new shipper, we will terminate the review.

Initiation of Review

In its request of February 28, 2001, Shinho certified that it did not export the subject merchandise to the United States during the POI (January 1, 1994 through June 30, 1994), and it is not affiliated with any company which exported subject merchandise to the United States during the POI. Shinho further certified that it has never been affiliated with any exporter or producer who exported the subject merchandise to the United States during the POI. Also, in accordance with 19 CFR 351.214(b)(2)(iv), Shinho submitted documentation establishing (1) the date on which it first shipped the subject merchandise to the United States, (2) the volume of that shipment, and (3) the date of the first sale to an unaffiliated customer in the United States.

In accordance with section 751(a)(2)(B) and 19 CFR 351.214(d), we are initiating a new shipper review of the antidumping duty order on oil country tubular goods, other than drill pipe, from Korea. We intend to issue final results of this review not later than 270 days from the publication of this notice.

Pursuant to § 351.214(g)(1)(i)(B), the standard period of review (POR) in a new shipper proceeding initiated in the month immediately following the semiannual anniversary month is the six-month period immediately preceding the semi-annual anniversary month. However, Shinho requested that the Department extend the normal six-month period by one month. The Department's regulations provide the Department with the discretion to expand the normal POR to include an entry and sale to an unaffiliated customer in the United States of subject merchandise if that expansion of the period would likely not prevent the completion of the review within the time limits set forth in § 351.214(i). See Antidumping Duties; Countervailing Duties; Notice of Proposed Rulemaking and Request for Public Comment, 61 FR 7308, 7318 (February 27, 1996); Antidumping Duties; Countervailing Duties; Final Rule, 62 FR 27296, 27319-20 (May 19, 1997). See also 19 CFR 351.214(f)(2)(ii). Because we have determined that the expansion of the period will not likely prevent the completion of the review within the prescribed time limits, we have expanded the semi-annual review period by one month. Therefore, the POR for this review has been defined as August 1, 2000 through February 28, 2001.

Concurrent with publication of this notice, we will instruct the U.S. Customs Service to suspend liquidation of any unliquidated entries of the subject merchandise, and to allow, at the option of the importer, the posting, until the completion of the review, of a bond or security in lieu of a cash deposit for each entry of the merchandise exported by the company listed above, in accordance with 19 CFR 351.214(e).

Interested parties must submit applications for disclosure under administrative protective order in accordance with 19 CFR 351.305 and 351.306.

This initiation and notice are in accordance with section 751(a) of the Act (19 U.S.C. 1675(a)) and 19 CFR 351.214.

Dated: March 30, 2001.
Joseph A. Spetrini,
Deputy Assistant Secretary, AD/CVD Enforcement Group III.

[FR Doc. 01-8662 Filed 4-6-01; 8:45 am]

BILLING CODE 3510-DS-P